NUCLEAR REGULATORY COMMISSION

Advisory Committee on Reactor Safeguards, Subcommittee Meeting on Thermal-Hydraulic Phenomena; Notice of Meeting

The ACRS Subcommittee on Thermal-Hydraulic Phenomena will hold a meeting on July 19-20, 2005, Room O-1G16, 11555 Rockville Pike, Rockville, Maryland.

The agenda for the subject meeting shall be as follows:

Tuesday, July 19, 2005—8:30 a.m. until the conclusion of business

Wednesday, July 20, 2005—8:30 a.m. until the conclusion of business

The Subcommittee will review the latest proposed staff revision to Regulatory Guide 1.82 related to ECCS Net Positive Suction Head. The staff will describe its plans to provide guidance related to containment overpressure credit. The staff will also present the results of ongoing research concerning interactions of reactor coolant with debris in the reactor containment sump. The Subcommittee will hear presentations by and hold discussions with representatives of the NRC staff, their contractors, and other interested persons regarding this matter. The Subcommittee will gather information, analyze relevant issues and facts, and formulate proposed positions and actions, as appropriate, for deliberation by the full Committee.

Members of the public desiring to provide oral statements and/or written comments should notify the Designated Federal Official, Mr. Ralph Caruso (Telephone: (301) 415-8065) five days prior to the meeting, if possible, so that appropriate arrangements can be made. Electronic recordings will be permitted.

Further information regarding this meeting can be obtained by contacting the Designated Federal Official between 7:30 a.m. and 4:15 p.m. (e.t.). Persons planning to attend this meeting are urged to contact the above named individual at least two working days prior to the meeting to be advised of any potential changes to the agenda.

Dated: June 30, 2005.
Sharon A. Steele,
Acting Branch Chief, ACRS/ACNW.

[FR Doc. E5-3599 Filed 7-7-05; 8:45 am]

BILLING CODE 7590-01-P